DEPARTMENT OF HOMELAND SECURITY

Federal Emergency Management Agency

[Docket ID: FEMA-2014-0017; OMB No. 1660-0085]

Agency Information Collection Activities: Submission for OMB Review; Comment Request; Crisis Counseling Assistance and Training Program

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 25, 2014.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 500 C Street SW., Washington, DC 20472-3100, facsimile number (202) 212-4701, or email address FEMA-Information-Collections-Management@dhs.gov.

SUPPLEMENTARY INFORMATION:

Unauthorized Use of Draft Immediate Services Program (ISP) Application: During April 2014, FEMA used the draft version of the ISP application to evaluate whether the State of Washington needed the ISP portion of the Crisis Counseling Program for the Washington State mudslides that occurred on March 22, 2014. Washington State was approved for the ISP portion of the Crisis Counseling Program and FEMA only utilized the ISP draft application during this one incident. FEMA will not use the ISP or RSP applications until OMB has approved both forms for use. FEMA is disclosing the unauthorized use for transparency purposes during the OMB review and approval process.

Collection of Information

Title: Crisis Counseling Assistance and Training Program.

Type of information collection: Revision of a currently approved information collection.

OMB Number: 1660-0085.

Form Titles and Numbers: FEMA Form 003-0-1, Crisis Counseling Assistance and Training Program, Immediate Services Program Application; FEMA Form 003-0-2, Crisis Counseling Assistance and Training Program, Regular Services Program Application; SF-424, Application for Federal Assistance; SF-424A, Budget Information for Non-Construction Programs; SF-425, Federal Financial Report; HHS Checklist/08-2007; HHS Project Performance Site Location Form.

Abstract: The CCP consists of two grant programs, the Immediate Services Program (ISP) and the Regular Services Program (RSP). The ISP and the RSP provide supplemental funding to States, U.S. Territories, and Federally recognized Tribes following a Presidentially-declared disaster. The grant programs provide funding for Training and Services, including community outreach, public education, and counseling techniques. States are required to submit an application that provides information on Needs Assessment, Plan of Service, Program Management, and an accompanying Budget.

Affected Public: State, local, or Tribal Government.

Estimated Number of Respondents: 150.

Estimated Total Annual Burden Hours: 1,515 hours.

Estimated Cost: The estimated annual cost to respondents for the hour burden is $84,476.40. There are no annual costs to respondents operations and maintenance costs for technical services. There is no annual start-up or capital costs. The cost to the Federal Government is $107,717.

Dated: August 21, 2014.
Charlene D. Myrthil,
Director, Records Management Division, Mission Support Bureau, Federal Emergency Management Agency, Department of Homeland Security.

[FR Doc. 2014-20319 Filed 8-25-14; 8:45 am]

BILLING CODE 9111-23-P